SECURITIES AND EXCHANGE COMMISSION

Sunshine Act Meeting

Notice is hereby given, pursuant to the provisions of the Government in the Sunshine Act, Public Law 94-409, that the Securities and Exchange Commission Investor Advisory Committee will hold an Open Meeting on Monday, July 27, 2009, in the Auditorium, Room L-002. The meeting will begin at 10 a.m. and will be open to the public, with seating on a first-come, first-served basis. Doors will open at 9:30 a.m. Visitors will be subject to security checks.

On July 8, 2009, the Commission published notice of the Committee meeting (Release No. 33-9049), indicating that the meeting is open to the public and inviting the public to submit written comments to the Committee. This Sunshine Act notice is being issued because a majority of the Commission plans to attend the meeting. Commissioner Walter, as duty officer, determined that no earlier Sunshine Act notice was possible.

The agenda for the meeting includes opening remarks, introduction of Committee members, discussion of Committee agenda and organization, and discussion of investor views of possible refinements to the disclosure regime.

For further information, please contact the Office of the Secretary at (202) 551-5400.

Dated: July 22, 2009.
Elizabeth M. Murphy,
Secretary.

[FR Doc. E9-17861 Filed 7-27-09; 8:45 am]

BILLING CODE 8010-01-P